DEPARTMENT OF THE INTERIOR

Fish and Wildlife Service

[FWS-R6-ES-2011-N026; 60120-1113-0000-D2]

Endangered and Threatened Wildlife and Plants; Permits

AGENCY: Fish and Wildlife Service, Interior.

ACTION: Notice of receipt of applications for permits.

SUMMARY: We announce our receipt of applications to conduct certain activities pertaining to enhancement of survival of endangered species. The Endangered Species Act requires that we invite public comment on these permit applications.

DATES: Written comments on this request for a permit must be received by March 25, 2011.

ADDRESSES: Submit written data or comments to the Assistant Regional Director-Ecological Services, U.S. Fish and Wildlife Service, P.O. Box 25486, Denver Federal Center, Denver, CO 80225-0486; facsimile 303-236-0027.

SUPPLEMENTARY INFORMATION:

Public Availability of Comments

Before including your address, phone number, e-mail address, or other personal indentifying information in your comment, you should be aware that your entire comment—including your personal identifying information—may be made publicly available at any time. While you can ask us in your comment to withhold your personal identifying information from public review, we cannot guarantee that we will be able to do so.

Document Availability

Documents and other information submitted with these applications are available for review, subject to the requirements of the Privacy Act (5 U.S.C. 552a) and Freedom of Information Act (5 U.S.C. 552), by any party who submits a request for a copy of such documents within 30 days of the date of publication of this notice to Kris Olsen, by mail (see ADDRESSES) or by telephone at 303-236-4256. All comments we receive from individuals become part of the official public record.

Applications

The following applicants have requested issuance of enhancement of survival permits to conduct certain activities with endangered species pursuant to Section 10(a)(1)(A) of the Endangered Species Act of 1973, as amended (16 U.S.C. 1531 et seq.).

Applicant: Craig D. Miller, Boulder, Colorado, TE-040571. The applicant requests a renewed permit to take Southwestern willow flycatcher (Empidonax traillii extimus) in conjunction with recovery activities throughout the species' range for the purpose of enhancing its survival and recovery.

Applicant: Mark Peyton, Central Nebraska Public Power and Irrigation District, Gothenburg, Nebraska, TE-038221. The applicant requests a renewed permit to take piping plover (Charadrius melodus), interior least tern (Sterna antillarum), and American burying beetle (Nicrophorus americanus) in conjunction with recovery activities throughout the species' range for the purpose of enhancing its survival and recovery.

Applicant: Kevin Bestgen, Colorado State University, Ft. Collins, Colorado, TE-046795. The applicant requests a renewed permit to take Colorado pikeminnow (Ptychocheilus lucius) and razorback sucker (Xyrauchen texanus) in conjunction with recovery activities throughout the species' range for the purpose of enhancing its survival and recovery.

Applicant: Randy Rieches, San Diego Wild Animal Park, Escondido, California, TE-051835. The applicant requests a renewed permit to take black-footed ferret (Mustela nigripes) in conjunction with recovery activities throughout the species' range for the purpose of enhancing its survival and recovery.

Applicant: William Sloan, National Park Service, Moab, Utah, TE-047808. The applicant requests a renewed permit to take Southwestern willow flycatcher (Empidonax traillii extimus) in conjunction with recovery activities throughout the species' range for the purpose of enhancing its survival and recovery.

Applicant: Sam Stukel, South Dakota Game, Fish, and Parks, Yankton, South Dakota, TE-124904. The applicant requests a renewed permit to take pallid sturgeon (Scaphirhynchus albus) in conjunction with recovery activities throughout the species' range for the purpose of enhancing its survival and recovery.

Applicant: Robert Muth, U.S. Fish and Wildlife Service, Bozeman Fish Technology Center, Bozeman, Montana, TE-038970. The applicant requests a renewed permit to take pallid sturgeon (Scaphirhynchus albus), June sucker (Chasmistes liorus), bonytail (Gila elegans), and woundfin (Plagopterus argentissimus) in conjunction with recovery activities throughout the species' range for the purpose of enhancing its survival and recovery.

Applicant: Steven Wall, Volga, South Dakota, TE-121908. The applicant requests a renewed permit to take Topeka shiner (Notropis topeka) in conjunction with recovery activities throughout the species' range for the purpose of enhancing its survival and recovery.

Applicant: Jay P. Gilbertson, East Dakota Water Development District, Brookings, South Dakota, TE-056001. The applicant requests a renewed permit to take Topeka shiner (Notropis topeka) in conjunction with recovery activities throughout the species' range for the purpose of enhancing its survival and recovery.

Dated: February 11, 2011.
Noreen E. Walsh,
Deputy Regional Director, Denver, Colorado.

[FR Doc. 2011-3933 Filed 2-22-11; 8:45 am]

BILLING CODE 4310-55-P